ENVIRONMENTAL PROTECTION AGENCY

[EPA-HQ-OPPT-2022-0835; FRL-10293-02-OCSPP]

Update to EPA's Recommendations of Specifications, Standards and Ecolabels for Federal Purchasing; Notice of Availability and Request for Comment

AGENCY: Environmental Protection Agency (EPA).

ACTION: Notice.

SUMMARY: In November 2022, the Environmental Protection Agency (EPA or Agency) announced the expansion of the Recommendations of Specifications, Standards and Ecolabels for Federal Purchasing (Recommendations) and invited managers of standards development organizations, ecolabel programs, and associated conformity assessment bodies to apply for potential assessment against EPA's Framework for the Assessment of Environmental Performance Standards and Ecolabels. In August 2023, EPA announced the first five purchase categories chosen for assessment. With this document, EPA is announcing the availability of and seeking feedback on the proposed additions to the Recommendations based on assessments against the Framework, as well as the proposed removals of standards/ecolabels already included in the Recommendations based on implementation of new eligibility criteria.

DATES: Comments must be received on or before October 15, 2024.

ADDRESSES: Submit your comments, identified by docket identification (ID) number EPA-HQ-OPPT-2022-0835, through the Federal eRulemaking Portal at https://www.regulations.gov. Follow the online instructions for submitting comments. Do not submit electronically any information you consider to be Confidential Business Information (CBI) or other information whose disclosure is restricted by statute. Additional instructions on commenting and visiting the docket, along with more information about dockets generally, is available at https://www.epa.gov/ dockets.

FOR FURTHER INFORMATION CONTACT: Jenna Larkin, Environmental Protection Specialist, Environmentally Preferable Purchasing Program (7409M), Office of Chemical Safety and Pollution Prevention, Environmental Protection Agency, 1200 Pennsylvania Ave. NW, Washington, DC 20460-0001; telephone number: (202) 564-3395; email address: larkin.jenna@epa.gov.

SUPPLEMENTARY INFORMATION:

I. Executive Summary

A. Does this action apply to me?

These updates may be of specific interest to those who represent or use sustainability standards and ecolabels, including institutional or governmental purchasers, manufacturers seeking certification, and standards development organizations.

B. What action is the Agency taking?

EPA has completed the assessment of the standards and ecolabels that volunteered to be assessed in November 2022 against the Framework for the Assessment of Environmental Performance Standards and Ecolabels in the following product and service categories:

• Healthcare;

• Laboratories;

• Uniforms & Clothing;

• Food Service Ware (e.g., containers, cutlery and dishware); and

• Professional Services.

Based on these assessments, EPA is now seeking feedback on the proposed additions of specifications, standards, and ecolabels in the above categories. EPA is also seeking feedback on the proposed removals of standards and ecolabels in already existing purchase categories.

C. What is the Agency's authority for taking this action?

Executive Order 14057, entitled “Catalyzing Clean Energy Industries and Jobs Through Federal Sustainability” (86 FR 70935, December 13, 2021), and associated implementing instructions direct EPA to consider expanding the Recommendations to facilitate net-zero emissions procurement and other related sustainable purchasing goals. In addition, Executive Order 14057 directs Federal purchasers to prioritize products and services that address multiple environmental impacts. After meeting applicable statutory mandates (BioPreferred, SNAP, CPG, ENERGY STAR/FEMP), agencies are directed to buy products and services that meet one or more of the applicable EPA purchasing programs, including those meeting the specifications, standards, and ecolabels included in the Recommendations.

Executive Order 14008, entitled “Tackling the Climate Crisis at Home and Abroad” (86 FR 7619, February 1, 2021), directs the Federal Government to lead by example and leverage its buying power to “catalyze private sector investment into, and accelerate the advancement of America's industrial capacity to supply domestic clean energy, buildings, vehicles, and other necessary products and materials.” The expansion of the Recommendations will help to spur this market demand for more sustainable products and services.

Section 12(d) of the National Technology Transfer and Advancement Act (NTTAA), 15 U.S.C. 272 note, as well as mandates from the Office of Management and Budget (OMB) identified as Circular A-119, entitled “Federal Participation in the Development and Use of Voluntary Consensus Standards and in Conformity Assessment Activities,” direct Federal agencies to use voluntary consensus standards (VCS) in lieu of government-unique standards as a means to carry out policy and procurement objectives, except where inconsistent with applicable law or otherwise impractical.

Section 6604(b)(11) of the Pollution Prevention Act (PPA), 42 U.S.C. 13103(b)(11), directs EPA to identify opportunities to use Federal procurement to encourage pollution prevention.

D. What should I consider as I prepare my comments?

1. Submitting CBI. Do not submit CBI to EPA through email or https://www.regulations.gov. If you wish to include CBI in your comment, please follow the applicable instructions at https://www.epa.gov/dockets/commenting-epa-dockets#rules and clearly mark the information that you claim to be CBI. Information so marked will not be disclosed except in accordance with procedures set forth in 40 CFR parts 2 and 703, as applicable.

2. Tips for preparing your comments. When preparing and submitting your comments, see the commenting tips at https://www.epa.gov/dockets/commenting-epa-dockets.

II. Background

The Recommendations of Specifications, Standards, and Ecolabels help Federal purchasers identify and procure environmentally preferable products and services. Federal purchasers are directed in the implementing instructions issued by the Council on Environmental Quality, entitled “Implementing Instructions for Executive Order 14057, Catalyzing Clean Energy Industries and Jobs Through Federal Sustainability” (2022) and 48 CFR 23.108 of the Federal Acquisition Regulation to procure products and services meeting the Recommendations to meet net-zero emissions procurement and other sustainability goals. In November 2022, EPA announced the expansion of the Recommendations and invited managers of standards development organizations, ecolabel programs, and associated conformity assessment bodies to apply for potential assessment against the Framework (87 FR 66176, November 2, 2022 (FRL-10293-01-OCSPP)). In August 2023, EPA announced the first five purchase categories chosen for assessment via a listserv announcement available at https://www.epa.gov/chemicals-under-tsca/epa-announces-first-product-categories-expansion-ecolabel-recommendations. EPA then began the process to assess the standards and ecolabels that volunteered to be assessed in those five categories and is now seeking feedback on proposed additions to the Recommendations, along with other updates.

In April 2022, the standard/ecolabel organizations included in the Recommendations were notified of new eligibility criteria to be implemented in 2023. These criteria ensure consistency with U.S. Federal Government standards policy and assists with implementation into General Services Administration (GSA) procurement tools and contracts. Standards/ecolabels were given until December 31, 2023, to demonstrate that they meet the eligibility criteria. Those that were not able to meet the criteria, are being proposed for removal from the Recommendations.

• There must be a publicly available and current (i.e., updated in the last 3 months) directory/registry of products/services conformant to the standard or ecolabel.

• All standards and ecolabels are required to demonstrate that they have a competent certification program—either via accreditation or the alternative pathway provided in Section III of EPA's Framework for the Assessment of Environmental Performance Standards and Ecolabels.

A. What are the recommendations of specifications, standards, and ecolabels for Federal purchasing?

The Recommendations help purchasers easily identify credible and effective environmental performance standards/ecolabels/certifications by product/service category for incorporation into Federal procurement activities (e.g., contracts and e-procurement systems). They currently include over 30 product and service categories and more than 40 private sector environmental performance standards and ecolabels. The Recommendations give preference to multi-attribute/lifecycle-based standards and ecolabels that address key impact areas (AKA hotspots) and where product conformance is determined by a competent third-party certification body.

B. What is the framework for the assessment of environmental performance standards and ecolabels?

The Framework, available at https://www.epa.gov/greenerproducts/framework-assessment-environmental-performance-standards-and-ecolabels-federal, provides a transparent, fair, and consistent approach to evaluate product and service environmental performance standards and ecolabels for inclusion in EPA's Recommendations. EPA began developing the Framework (formerly known as the Guidelines) in 2011 via a multi-stakeholder process, including several public comment opportunities. The Framework was then piloted in 2015-2016 in three product categories: Furniture, flooring (includes carpet), and paints/coatings. Based on lessons learned from the pilot, additional minor edits were made to clarify and streamline the criteria within the Framework and make it applicable to services. An updated version of the Framework was announced and posted to the EPA website in February 2022. That announcement also included details about EPA's intentions to use the Framework to expand the Recommendations into additional product and service categories. More details on the Framework development process are available at https://www.epa.gov/greenerproducts/framework-development-overview.

The Framework includes:

• Scoping Questions: Assist EPA in planning and budgeting; confirm eligibility and scope before proceeding with full assessment against applicable sections of the Framework.

The four sections of Assessment Criteria include:

• Section I: Process for Developing the Standard—Assesses the procedures used to develop, maintain, and update an environmental performance standard, including whether a standard is considered a voluntary consensus standard.

• Section II: Environmental Effectiveness of the Standard—Assesses the criteria in the environmental performance standard or ecolabel that support the claim of environmental preferability.

• Section III: Conformity Assessment—Assesses the procedures and practices by which products or services are assessed for conformity to the requirements specified by standards and ecolabeling programs.

• Section IV: Management of Ecolabeling Programs—Assesses the organizational and management practices of an ecolabeling program.

III. Request for Public Comment

A. What feedback is sought on the addition of certain standards and ecolabels?

EPA is seeking public input on the addition of the following standards and ecolabels in the following product categories. Standards and ecolabels listed below meet all applicable baseline criteria in the Framework and are being proposed to be added to the Recommendations.

1. Healthcare

• Medical Devices [Food and Drug Administration (FDA) Class I and II]:

—Greenscreen Certified® Standard for Medical Supplies and Devices

—Greenhealth Approved for Medical Equipment

• Medical Supplies:

—Greenscreen Certified® Standard for Medical Supplies and Devices

—Greenhealth Approved for Medical Equipment

—Nordic Ecolabelling for Sanitary Products

2. Laboratories

• Laboratory Operations:

—My Green Lab Certification

• Laboratory Equipment & Supplies:

—ACT Ecolabel from My Green Lab

3. Clothing and Uniforms

• Finished Clothing:

—Nordic Ecolabelling for Textiles, Hides/Skins, and Leathers

—Cradle to Cradle Certified Product Standard

—Global Organic Textile Standard

—European Union (EU) Ecolabel for Textile Products [Pending]. Note: EPA designed the Framework principally for the assessment of standards and ecolabels developed by the private sector. Because the EU Ecolabel has been developed and is operated by the European Union, the U.S. and the European Commission Services are discussing whether and how to include it in the Recommendations. EPA has marked the ecolabel as “pending” while those deliberations continue.

• Clothing Textiles/Fabrics:

—Nordic Ecolabelling for Textiles, Hides/Skins, and Leathers

—Cradle to Cradle Certified Product Standard

—OEKO-TEX Made in Green

—OEKO-TEX Standard 100

—Global Organic Textile Standard

—GreenScreen Certified® Standard for Furniture and Fabrics

4. Cafeteria and Food Service

• Reusable Food Service Ware:

—GreenScreen Certified® Standard for Reusable Food Packaging, Food Service Ware, & Cookware

—Cradle to Cradle Certified Product Standard

• Certified Compostable Food Service Ware:

—GreenScreen Certified® Standard for Single-Use Food Service Ware & Thermal Paper

—Cradle to Cradle Certified Product Standard (Platinum Level in Product Circularity)

—BPI Commercial Compostability Certification Scheme

• Certified Recyclable Food Service Ware:

—GreenScreen Certified® Standard for Single-Use Food Service Ware & Thermal Paper

—Cradle to Cradle Certified Product Standard (Platinum Level in Product Circularity). Note: The environmental benefits associated with these standards and ecolabels are contingent upon the availability and use of applicable end-of-life/waste management services. EPA provides current best practices for the procurement of Food Service Ware sub-categories available at https://www.epa.gov/greenerproducts/identifying-greener-food-service-and-food-service-ware.

5. Professional Services

• None.

B. What feedback is sought on the removal of certain standards and ecolabels?

EPA is also seeking public input on the removal of the following standards and ecolabels in the following categories, including the reason for removal.

1. Ecologo/UL 2771 Standard for Sustainable Paper Products

• Product Category: Copy Paper—Reason for removal: standard retired in 2023.

2. Sustainable Furnishings Council Exemplary

• Product Category: Furniture—Reason for removal: ecolabel discontinued in 2021.

3. Sustainable Materials Rating Technology (SMaRT)

• Product Category: Carpet, Flooring, Furniture, Interior Latex Paint—Reason for removal: Product registry has not been updated within the past 3 months; Unable to demonstrate the existence of a competent third-party certification program.

4. Clear Roads Qualified Products

• Product Category: De-icer—Reason for removal: Unable to demonstrate the existence of a competent third-party certification program.

5. International Living Futures Institute: Declare

• Product Category: Carpet, Flooring, Furniture, Interior Latex Paint, Other Miscellaneous Building Finishes—Reason for removal: Unable to demonstrate the existence of a competent third-party certification program.

6. International Living Futures Institute: Living Product Challenge

• Product Category: Carpet, Flooring, Furniture, Interior Latex Paint, Other Miscellaneous Building Finishes—Reason for removal: Unable to demonstrate the existence of a competent third-party certification program.

7. EPEAT Registered (Criteria for the Sustainability Assessment of Network Equipment for the Global Electronics Council EPEAT® Ecolabel and the TÜV Rheinland Green Product Mark)

• Product Category: Network Equipment and Cloud Services—Reason for removal: This ecolabel was originally added to the Recommendations based on a previous requirement in the Federal Acquisition Regulation (FAR) that required Federal agencies to procure EPEAT registered electronic products. The FAR was recently updated and no longer contains that requirement.

C. What information should be included in your comment?

EPA is particularly interested in receiving comments that include the following:

• Name of person or organization submitting the comments;

• Product or service category that pertains to your comments;

• Reasons for the support or opposition of the proposed updates;

• Impacts the updates may have on your organization;

• Input on new product category naming and sub-product category naming; and

• Product or service categories you would like EPA to consider performing assessments in during the next update cycle. This may include product/service categories already included in the Recommendations.

• If your standard or ecolabel organization is interested in being assessed in the next update cycle, please provide the name of the standard or ecolabel, the product or service category(ies) that it covers, and a link to the publicly available website.

EPA is not seeking comments on the Framework tool used to assess standards and ecolabels. The Framework went through a separate multi-stakeholder development process that included several public comment opportunities. See https://www.epa.gov/greenerproducts/framework-development-overview.

Authority: 42 U.S.C. 1310.

Dated: September 9, 2024.
Michal Freedhoff,
Assistant Administrator, Office of Chemical Safety and Pollution Prevention.

[FR Doc. 2024-20820 Filed 9-12-24; 8:45 am]

BILLING CODE 6560-50-P